DEPARTMENT OF TRANSPORTATION

National Highway Traffic Safety Administration

[Docket No. NHTSA—2012-0068; Notice 5]

RIN 2127-AK72

Early Warning Reporting, Foreign Defect Reporting, and Motor Vehicle and Equipment Recall Reporting; Training Sessions

AGENCY: National Highway Traffic Safety Administration (NHTSA), Department of Transportation (DOT).

ACTION: Meeting Notice—Training Sessions for Online Recalls Portal.

SUMMARY: NHTSA is requiring manufacturers to submit recall reports and associated documents online through a web-based, Internet portal beginning August 2014. Through this portal, manufacturers will not only file new reports, but will update and amend those reports, file quarterly reports on the progress of their recall campaigns, submit copies of representative communications they issue to owners and dealers, and conduct a host of other routine filings and communications with the agency attendant to a safety recall campaigns. NHTSA will offer twenty (20) online training sessions to instruct manufacturer staff and representatives on how to obtain accounts and use the new portal between July 28, 2014, and August 8, 2014

DATES: The training sessions will be offered between July 28, 2014, and August 8, 2014. Participants must register by July 25, 2014. Specific training dates and times can be found in the SUPPLEMENTARY INFORMATION section below.

ADDRESSES: All training sessions will be instructor-led and online. The web address and passcode will be provided to registered participants before their selected session. Attendees must register by close of business July 25, 2014. To register please send an email to recalls.training@dot.gov with the names of your participants, company name, company location, desired training date, and session choice.

FOR FURTHER INFORMATION CONTACT: Alex Ansley, Safety Recall Specialist, NHTSA, Phone: 202-493-0481, Email: alexander.ansley@dot.gov.

SUPPLEMENTARY INFORMATION: On August 20, 2013, NHTSA published a final rule requiring manufacturers to submit required recall information through a web-based, Internet portal accessed through our Web site www.safercar.gov. See 78 FR 51382, 51403. Through this portal, manufacturers will not only file new part 573 reports, but will update and amend those reports, file quarterly reports on the progress of their recall campaigns, submit copies of representative communications they issue to owners and dealers, and conduct a host of other routine filings and communications with the agency attendant to a safety recall campaigns. Safety recall document submissions will only be accepted through the new Recalls Portal beginning August 20, 2014. After this date, recall document submissions will not be accepted by U.S. Mail, email, or facsimile.

Online training sessions will be offered to any manufacturer personnel, representatives, and interested members of the public.¹ We recommend that manufacturer recall administrators and any persons that submit recall reports join a training session. We will offer two (2) types of training sessions: general sessions and specialty sessions. General sessions will be open to anyone and cover a broad range of scenarios and possible use-cases. Specialty sessions will also be open to anyone, but will be catered to certain types of manufacturers.

¹ NHTSA can likely accommodate in-person training at the U.S. Department of Transportation Headquarters in Washington, DC, to those who require it. Interested participants should indicate their need for in-person training when they reserve a training session.

All training will be instructor-led WebEx sessions. Each training session will be limited to fifty (50) registered participants.

Training Session Dates and Times:
Training session date | Morning session (9:00 a.m.—11:30 a.m. Eastern) | Afternoon session (1:30 p.m.—4:00 p.m. Eastern)
Monday, July 28 | General Session | Specialty Session (Passenger Vehicle MFRs).
Tuesday, July 29 | General Session | Specialty Session (Child Restraint MFRs).
Wednesday, July 30 | General Session | Specialty Session (Equipment MFRs).
Thursday, July 31 | General Session | Specialty Session (Passenger Vehicle MFRs).
Friday, August 1 | Specialty Session (Passenger Vehicle MFRs) | General Session.
Monday, August 4 | Specialty Session (Heavy Duty Vehicle MFRs) | General Session.
Tuesday, August 5 | Specialty Session (Tire MFRs) | General Session.
Wednesday, August 6 | Specialty Session (Equipment MFRs) | General Session.
Thursday, August 7 | General Session | Specialty Session (Heavy Duty Vehicle MFRs).
Friday, August 8 | General Session | Specialty Session (Child Restraint MFRs).

How To Register

To register, please send an email to recalls.training@dot.gov and include the first and last name of the participant(s), company name, company location, desired training date, and choose the morning or the afternoon session. Also, please include an alternative date/session in the event your first choice is full. Registration emails must be received by July 25, 2014, in order to attend an online training session.

Training session access instructions will be sent to registered participants on or about July 25, 2014.

For those unable to attend a training session, a recorded version of the Online Recalls Portal Training Presentation, along with other training materials, will be available as a reference. We will place this recording in a conspicuous location at http://www.safercar.gov. The recording will be available in August 2014.

Jennifer Timian,
Chief, Recall Management Division, NHTSA.

[FR Doc. 2014-11941 Filed 5-23-14; 8:45 am]

BILLING CODE 4910-59-P